DEPARTMENT OF THE INTERIOR

National Park Service

[NPS-WASO-NAGPRA-NPS0035776; PPWOCRADN0-PCU00RP14.R50000]

Notice of Inventory Completion: U.S. Army Corps of Engineers, Mobile District, Mobile, AL

AGENCY: National Park Service, Interior.

ACTION: Notice.

SUMMARY: In accordance with the Native American Graves Protection and Repatriation Act (NAGPRA), the U.S. Army Corps of Engineers, Mobile District, has completed an inventory of human remains and associated funerary objects and has determined that there is a cultural affiliation between the human remains and associated funerary objects and Indian Tribes or Native Hawaiian organizations in this notice. The human remains and associated funerary objects were removed from Itawamba and Tishomingo Counties, MS.

DATES: Repatriation of the human remains and associated funerary objects in this notice may occur on or after June 5, 2023.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the inventory or related records held by the U.S. Army Corps of Engineers, Mobile District.

Description

Human remains representing, at minimum, 26 individuals were removed from Itawamba County, MS. The White Springs site (22IT537) was originally recorded by Joseph Caldwell and S.D. Lewis in 1971, during a survey of the Canal Section of the Tennessee-Tombigbee Waterway. The site was identified as a 15-20-acre village. Archeological phases identified at the site include Early Archaic, Gulf Formational, Middle and Late Woodland, and Mississippian. Testing excavations were conducted in April of 1971, and full-scale excavation was conducted between July and August of the same year by the University of Southern Mississippi. The age and sex of these individuals are unidentified. No known individuals were identified. The 240 associated funerary objects are 51 lots consisting of ceramics, 53 lots consisting of lithics, 22 lots consisting of projectile points, 23 lots consisting of faunal remains, eight lots consisting of shells, 38 lots consisting of soil samples, 16 lots consisting of float samples, three lots consisting of fire cracked rock, one lot consisting of stone fragments, two lots consisting of preforms, five lots consisting of sandstone, four lots consisting of pebbles, four lots consisting of burial fill, three lots consisting of petrified wood, three lots consisting of ferrous sandstone, one lot consisting of scrapers, and three lots consisting of charcoal.

Human remains representing, at minimum, six individuals were removed from Itawamba County, MS. In November of 1971, Joseph Caldwell and S.D. Lewis identified the Walnut site (22IT539), located in a floodplain near the confluence of Mackeys and Big Brown Creeks and within the operational boundaries of the Canal Section of the Tennessee-Tombigbee Waterway. This site has been described as a village measuring 100 feet-by-150 feet on a rise in swamp and low forest. According to the site form, the Walnut site had been looted and partly cleared for a powerline. Archeological phases associated with the site include Middle Archaic, Late Archaic, Middle Gulf Formational, and Woodland. The age and sex of these individuals are unidentified. No known individuals were identified. The nine associated funerary objects are one lot consisting of beads, one lot consisting of lithics, one lot consisting of daub, three lots consisting of perpetuity samples, one lot consisting of charcoal, one lot consisting of unmodified cobbles, and one lot consisting of clay.

Human remains representing, at minimum, 10 individuals were removed from Itawamba County, MS. In 1975, the Poplar site (22IT576) was recorded by J.R. Atkinson in the Canal Section of the Tennessee-Tombigbee Waterway. Atkinson described the site as a circular Woodland midden mound with black soil approximately one-half acre in size. The University of Alabama conducted archeological testing at the site in 1979 and full-scale excavations in 1980. Poplar is a multi-component site with Paleoindian, Archaic, and Woodland components. The age and sex of these individuals are unidentified. No known individuals were identified. The 64 associated funerary objects are one lot consisting of ceramic, 21 lots consisting of lithics, nine lots consisting of faunal remains, nine lots consisting of ferrous sandstone, two lots consisting of projectile points, eight lots consisting of flotation samples, two lots consisting of pebbles, two lots consisting of soil samples, three lots consisting of clay, three lots consisting of pollen samples, one lot consisting of petrified wood, two lots consisting of biosilicate samples, and one lot consisting of groundstone fragments.

Human remains representing, at minimum, two individuals were removed from Tishomingo County, MS. The W.C. Mann Site (22TS565) is a Middle/Late Archaic site located in the Divide Cut Section of the Tennessee-Tombigbee Waterway. The Department of Anthropology of Memphis State University excavated the site from October of 1977 to May of 1978, under principal investigator Drexel A. Peterson, Jr., and field director William McKinney. The age and sex of these individuals are unidentified. No known individuals were identified. The 63 associated funerary objects are three lots consisting of ceramics, 26 lots consisting of lithics, two lots consisting of faunal remains, one lot consisting of cobbles, eight lots consisting of miscellaneous stones, one lot consisting of limonite fragments, two lots consisting of soil samples, two lots consisting of flotation samples, one lot consisting of daub, three lots consisting of clay, two lots consisting of stone cores, three lots consisting of projectile points, four lots consisting of sandstone, three lots consisting of fire cracked rock, one lot consisting of red ochre, and one lot consisting of abraders.

Human remains representing, at a minimum, five individuals were removed from Tishomingo County, MS. Site 22TS956, also referred to as “the” Bay Springs Rockshelter, is just one of several rockshelters situated along the Divide Cut Section of the Tennessee-Tombigbee Waterway. These sites were excavated in several stages by the Cultural Resource Program of the Department of Anthropology at the University of Pittsburgh under the direction of Principal Investigator J.M. Adovasio (October 1-13, 1979; October 16-November 23, 1979; December 3, 1979-February 25, 1980; and February 26-June 3, 1980). The age and sex of these individuals are unidentified. No known individuals were identified. The three associated funerary objects are two lots consisting of soil samples and one lot consisting of dense stone fragments.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, other relevant information, and expert opinion.

Determinations

Pursuant to NAGPRA and its implementing regulations, and after consultation with the appropriate Indian Tribes and Native Hawaiian organizations, the U.S. Army Corps of Engineers, Mobile District has determined that:

• The human remains described in this notice represent the physical remains of 49 individuals of Native American ancestry.

• The 379 objects described in this notice are reasonably believed to have been placed with or near individual human remains at the time of death or later as part of the death rite or ceremony.

• There is a relationship of shared group identity that can be reasonably traced between the human remains and associated funerary objects described in this notice and the Alabama-Coushatta Tribe of Texas; Alabama-Quassarte Tribal Town; Coushatta Tribe of Louisiana; and The Chickasaw Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 5, 2023. If competing requests for repatriation are received, the U.S. Army Corps of Engineers, Mobile District, must determine the most appropriate requestor prior to repatriation. Requests for joint repatriation of the human remains and associated funerary objects are considered a single request and not competing requests. The U.S. Army Corps of Engineers, Mobile District, is responsible for sending a copy of this notice to the Indian Tribes identified in this notice.

Authority: Native American Graves Protection and Repatriation Act, 25 U.S.C. 3003, and the implementing regulations, 43 CFR 10.9, 10.10, and 10.14.

Dated: April 25, 2023.
Melanie O'Brien,
Manager, National NAGPRA Program.

[FR Doc. 2023-09580 Filed 5-4-23; 8:45 am]

BILLING CODE 4312-52-P